DEPARTMENT OF LABOR

Employment and Training Administration

[TA-W-63,898]

Magna Services of America, Inc., Troy, MI; Notice of Termination of Investigation

Pursuant to Section 221 of the Trade Act of 1974, as amended, an investigation was initiated on August 19, 2008 in response to a worker petition filed by the state workforce office on behalf of workers at Magna Services of America, Inc., Troy, Michigan.

The petitioner has requested that the petition be withdrawn. Consequently, the investigation has been terminated.

Signed at Washington, DC, this 20th day of August 2008.
Linda G. Poole,
Certifying Officer, Division of Trade Adjustment Assistance.

[FR Doc. E8-20038 Filed 8-28-08; 8:45 am]

BILLING CODE 4510-FN-P